DEPARTMENT OF AGRICULTURE

Animal and Plant Health Inspection Service

[Docket No. APHIS-2009-0027]

National Animal Identification System; Public Meetings

AGENCY: Animal and Plant Health Inspection Service, USDA.

ACTION: Notice of public meetings.

SUMMARY: This is a notice to inform the public of six upcoming meetings to discuss stakeholder concerns related to the implementation of the National Animal Identification System. The meetings are being organized by the Animal and Plant Health Inspection Service.

DATES: The meetings will be held on June 9, 11, 16, 18, 25, and 27, 2009, from 9 a.m. to 4 p.m. each day.

ADDRESSES: The public meetings will be held in Jefferson City, MO (June 9), Rapid City, SD (June 11), Albuquerque, NM (June 16), Riverside, CA (June 18), Raleigh, NC (June 25), and Jasper, FL (June 27).

FOR FURTHER INFORMATION CONTACT: Dr. Adam Grow, Director, Surveillance and Identification Programs, National Center for Animal Health Programs, VS, APHIS, 4700 River Road, Unit 200, Riverdale, MD 20737; (301) 734-3752.

SUPPLEMENTARY INFORMATION: As part of its ongoing efforts to safeguard animal health, the U.S. Department of Agriculture (USDA) initiated implementation of a National Animal Identification System (NAIS) in 2004. The NAIS is a cooperative State-Federal-industry program administered by USDA's Animal and Plant Health Inspection Service (APHIS). The purpose of the NAIS is to provide a streamlined information system that will help producers and animal health officials respond quickly and effectively to animal disease events in the United States.

The ultimate long-term goal of the NAIS is to provide State and Federal officials with the capability to identify all animals and premises that have had direct contact with a disease of concern within 48 hours after discovery. Meeting that goal requires a comprehensive animal-disease traceability infrastructure. An NAIS User Guide and a Business Plan, both available on our Web site at http://animalid.aphis.usda.gov/nais/animal_id/index.shtml, provide detailed information about our plans for implementing the system.

Despite concerted efforts, APHIS has not been able to fully implement the NAIS. Many of the same issues that producers originally had with the system, such as the cost and impact on small farmers, privacy and confidentiality, and liability, continue to cause concern.

In order to provide individuals and organizations an opportunity to discuss their concerns regarding the NAIS and offer potential solutions, we plan to hold several public meetings and to solicit comments via our Web site. Our goal is to gather feedback and input from a wide range of stakeholders to assist us in making an informed decision regarding both the future of the NAIS and the objectives and direction for animal identification and traceability. We would particularly welcome feedback on the following topics:

• Cost. What are your concerns about the cost of the NAIS? What steps would you suggest APHIS use to address cost?

• Impact on small farmers. What are your concerns about the effect of the NAIS on small farmers? What approaches would you suggest APHIS take to address the potential impact on small farmers?

• Privacy and confidentiality. What are your concerns regarding how the NAIS will affect your operation's privacy and/or the confidentiality of your operation? What steps or tactics would you suggest APHIS use to address privacy and confidentiality issues?

• Liability. What are your concerns about your operation's liability under the NAIS? What would you suggest APHIS consider to address liability concerns?

• Premises registration. Do you have any suggestions on how to make premises registration, or the identification of farm or ranch locations, easier for stakeholders? How should we address your concerns regarding premises registration?

• Animal identification. Do you have any suggestions on how to make animal identification practical and useful to stakeholders while simultaneously meeting the needs of animal health officials who must conduct disease tracebacks?

• Animal tracing. Do you have any suggestions on how to make the animal tracing component practical, in particular the reporting of animal movements to other premises, while meeting the needs of animal health officials who must conduct disease tracebacks?

The meeting schedule is tentative as of the date of this publication. Please check our Web site at http://www.usda.gov/nais/feedback for the most up-to-date meeting information. The list of discussion topics is also available on the Web site. On-site registration will begin at 8 a.m. on the day of each meeting. All persons attending must register prior to the meetings.

Although preregistration is not required, participants are asked to preregister by sending APHIS an e-mail at NAISSessions@aphis.usda.gov or calling 301-734-0799. In the subject line of the e-mail, indicate your name (or organization name) and the location of the meeting you plan to attend. If you wish to present comments during one of the meetings, please include your name (or organization name) and address in the body of the message. Members of the public who are not able to attend may also submit and view comments via the Federal eRulemaking Portal at http://www.regulations.gov/fdmspublic/component/main?main=DocketDetail&d=APHIS-2009-0027. Additional information regarding the meetings may be obtained from the person listed under FOR FURTHER INFORMATION CONTACT.

Done in Washington, DC, this 20th day of May 2009.
Kevin Shea,
Acting Administrator, Animal and Plant Health Inspection Service.

[FR Doc. E9-12107 Filed 5-20-09; 4:15 pm]

BILLING CODE 3410-34-P